NATIONAL TRANSPORTATION SAFETY BOARD

Public Conference on Geographic Information Systems (GIS) in Transportation Safety

The National Transportation Safety Board will hold a public conference on the use of the Geographic Information Systems (GIS) in transportation safety on December 4-5, 2012. GIS is a rapidly expanding group of technologies and analytical techniques that uses geographically referenced data to support complex data integration, advanced statistical analysis, precise investigation, and effective visualization of data. The meeting will bring researchers and practitioners in transportation safety and GIS together to discuss how GIS data, technologies, and techniques are applied to improve transportation safety. They will identify emerging themes, current challenges, and potential solutions in using GIS in transportation safety. The meeting will include eight panels, with experts from government agencies, research institutes, non-profit organizations, and industry covering all modes of transportation. A preliminary program agenda, list of participants and how to register for the event can be found at the following Web site: http://www.ntsb.gov/news/events/2012/GIS/index.html.

The registration is free, however, due to the capacity of the venue, registration is required. Please register with the NTSB's Training Center. In the event that you need to cancel your registration, please email studentservices@ntsb.gov.

The Conference will be held Tuesday, December 4, 2012 from 9:00 a.m. to 5:00 p.m. and Wednesday, December 5, 2012 from 9:00 a.m. to 4:30 p.m. in the NTSB Board Room and Conference Center, located at 429 L'Enfant Plaza, SW. Washington DC.

The press and public may enter the NTSB Conference Center one hour prior to the meeting for set up and seating.

Individuals requesting specific accommodations should contact Rochelle Hall at (202) 314-6305 or by email at Rochelle.Hall@ntsb.gov by Friday, November 30, 2012.

The public may view the meeting via a live or archived webcast by accessing a link under “News & Events” on the NTSB home page at www.ntsb.gov.

Schedule updates including weather-related cancellations are also available at www.ntsb.gov.

For More Information Contact: Ivan Cheung at (202) 314-6570 or by email at ivan.cheung@ntsb.gov.

For Media Information Contact: Eric Weiss at (202) 314-6143 or by email at eric.weiss@ntsb.gov.

Dated: Friday, November 16, 2012.
Candi R. Bing,
Federal Register Liaison Officer.

[FR Doc. 2012-28320 Filed 11-20-12; 8:45 am]

BILLING CODE 7533-01-P